DEPARTMENT OF TRANSPORTATION

Federal Aviation Administration

14 CFR Part 39

[Docket No. FAA-2005-20345; Directorate Identifier 2004-NM-101-AD; Amendment 39-14083; AD 2005-10-06]

RIN 2120-AA64

Airworthiness Directives; Dornier Model 328-300 Series Airplanes

AGENCY: Federal Aviation Administration (FAA), Department of Transportation (DOT).

ACTION: Final rule.

SUMMARY: The FAA is adopting a new airworthiness directive (AD) for certain Dornier Model 328-300 series airplanes. This AD requires installing a drain hole in the lower skin of the left- and right-hand elevator horns. This AD is prompted by reports of water found in the elevator assembly. We are issuing this AD to prevent water or ice accumulating in the elevator assembly, which could result in possible corrosion that reduces the structural integrity of the flight control surface, or in an unbalanced flight control surface. These conditions could result in reduced controllability of the airplane.

DATES: This AD becomes effective June 16, 2005.

The incorporation by reference of a certain publication listed in the AD is approved by the Director of the Federal Register as of June 16, 2005.

ADDRESSES: For service information identified in this AD, contact AvCraft Aerospace GmbH, P.O. Box 1103, D-82230 Wessling, Germany.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., room PL-401, Washington, DC. This docket number is FAA-2005-20345; the directorate identifier for this docket is 2004-NM-101-AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: The FAA proposed to amend 14 CFR part 39 with an AD for certain Dornier Model 328-300 series airplanes. That action, published in the Federal Register on February 15, 2005 (70 FR 7689), proposed to require installing a drain hole in the lower skin of the left- and right-hand elevator horns.

Comments

We provided the public the opportunity to participate in the development of this AD. No comments have been submitted on the proposed AD or on the determination of the cost to the public.

Conclusion

We have carefully reviewed the available data and determined that air safety and the public interest require adopting the AD as proposed.

Costs of Compliance

The following table provides the estimated costs for U.S. operators to comply with this AD.

Estimated Costs
Action | Work hours | Average labor rate per hour | Parts | Cost per airplane | Number of U.S.-registered airplanes | Fleet cost
Installing drain hole | 1 | $65 | $100 | $165 | 49 | $8,085

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-10-06 Fairchild Dornier GmbH (Formerly Dornier Luftfahrt GmbH): Amendment 39-14083. Docket No. FAA-2005-20345; Directorate Identifier 2004-NM-101-AD.

Effective Date

(a) This AD becomes effective June 16, 2005.

Affected ADs

(b) None.

Applicability

(c) This AD applies to Dornier Model 328-300 series airplanes, serial numbers 3105 through 3219 inclusive, certificated in any category.

Unsafe Condition

(d) This AD was prompted by reports of water found in the elevator assembly. We are issuing this AD to prevent water accumulating in the elevator assembly, which could result in possible corrosion that reduces the structural integrity of the flight control surface, or in an unbalanced flight control surface. These conditions could result in reduced controllability of the airplane.

Compliance

(e) You are responsible for having the actions required by this AD performed within the compliance times specified, unless the actions have already been done.

Installation

(f) Within 90 days after the effective date of this AD, install a drain hole in the lower skin of the left- and right-hand elevator horns in accordance with the Accomplishment Instructions of Dornier Service Bulletin SB-328J-55-203, Revision 1, dated November 19, 2003.

Alternative Methods of Compliance (AMOCs)

(g) The Manager, International Branch, ANM-116, FAA, Transport Airplane Directorate, has the authority to approve AMOCs for this AD, if requested in accordance with the procedures found in 14 CFR 39.19.

Related Information

(h) German airworthiness directive D-2004-005, dated January 8, 2004, also addresses the subject of this AD.

Material Incorporated by Reference

(i) You must use Dornier Service Bulletin SB-328J-55-203, Revision 1, dated November 19, 2003, to perform the actions that are required by this AD, unless the AD specifies otherwise. The Director of the Federal Register approves the incorporation by reference of this document in accordance with 5 U.S.C. 552(a) and 1 CFR part 51. To get copies of the service information, contact AvCraft Aerospace GmbH, P.O. Box 1103, D-82230 Wessling, Germany. To view the AD docket, go to the Docket Management Facility, U.S. Department of Transportation, 400 Seventh Street SW, room PL-401, Nassif Building, Washington, DC. To review copies of the service information, contact the National Archives and Records Administration (NARA). For information on the availability of this material at the NARA, call (202) 741-6030, or go to http://www.archives.gov/federal_register/code_of_federal_regulations/ibr_locations.html.

Issued in Renton, Washington, on May 4, 2005.
Kalene C. Yanamura,
Acting Manager, Transport Airplane Directorate, Aircraft Certification Service.

[FR Doc. 05-9367 Filed 5-11-05; 8:45 am]

BILLING CODE 4910-13-P